DEPARTMENT OF THE INTERIOR

National Park Service

Notice of Inventory Completion: Warren Anatomical Museum, Harvard University, Boston, MA

AGENCY: National Park Service, Interior.

ACTION: Notice.

Notice is here given in accordance with the Native American Graves Protection and Repatriation Act (NAGPRA), 25 U.S.C. 3003, of the completion of an inventory of human remains in the possession and control of the Warren Anatomical Museum, Harvard University, Boston, MA. The human remains were removed from Connecticut.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Peabody Museum of Archaeology and Ethnology and Warren Anatomical Museum professional staff in consultation with representatives of the Mashantucket Pequot Tribe and the Mohegan Tribe of Indians of Connecticut.

At an unknown date, human remains representing one individual were removed from Connecticut by an unknown individual. These human remains were donated by Charles H. Stedman to the Boston Society for Medical Improvement before 1847. The collection of the Boston Society for Medical Improvement was transferred to the Warren Anatomical Museum in 1871. No known individual was identified. No associated funerary objects are present.

Osteological characteristics indicate that these human remains are Native American. Museum documentation describes the human remains as, “one of the Uncas Tribe...Connecticut.” Uncas was a well-known 17th century leader of the Mohegan Tribe. The specific cultural designation “Uncas Tribe” suggests the human remains date to the historic period, 17th Century or later. While other Native American tribes were also present in Connecticut during these periods, the attribution “Uncas” focuses the likelihood of cultural affiliation with the Mohegan Tribe. Based on this information, there is a shared group identity between the human remains and the Mohegan Tribe of Indians of Connecticut.

Officials of the Peabody Museum of Archaeology and Ethnology and Warren Anatomical Museum have determined that, pursuant to 25 U.S.C. 3001 (9-10), the human remains described above represent the physical remains of one individual of Native American ancestry. Officials of the Peabody Museum of Archaeology and Ethnology and Warren Anatomical Museum also have determined that, pursuant to 25 U.S.C. 3001 (2), there is a relationship of shared group identity that can be reasonably traced between the Native American human remains and the Mohegan Tribe of Indians of Connecticut.

Representatives of any other Indian tribe that believes itself to be culturally affiliated with the human remains should contact Patricia Capone, Repatriation Coordinator, Peabody Museum of Archaeology and Ethnology, Harvard University, 11 Divinity Ave., Cambridge, MA 02138, telephone (617) 496-3702, before January 8, 2010. Repatriation of the human remains to the Mohegan Tribe of Indians of Connecticut may proceed after that date if no additional claimants come forward.

The Peabody Museum of Archaeology and Ethnology and Warren Anatomical Museum are responsible for notifying the Mashantucket Pequot Tribe and the Mohegan Tribe of Indians of Connecticut that this notice has been published.

Dated: October 29, 2009.
Richard C. Waldbauer,
Acting Manager, National NAGPRA Program.

[FR Doc. E9-29292 Filed 12-8-09; 8:45 am]

BILLING CODE 4312-50-S